DEPARTMENT OF VETERANS AFFAIRS

Geriatrics and Gerontology Advisory Committee; Notice of Meeting Cancellation

The Department of Veterans Affairs gives notice under the Federal Advisory Committee Act that the meeting of the Geriatrics and Gerontology Advisory Committee, previously scheduled to be held at the Department of Veterans Affairs, 810 Vermont Avenue NW., Conference Room 630, Washington, DC 20420, on September 18-19, 2017, has been cancelled.

For more information, please contact Alejandra Paulovich, Program Analyst, Geriatrics and Extended Care Services at (202) 461-6016 or via email at Alejandra.Paulovich@va.gov.

Dated: August 11, 2017.
Jelessa M. Burney,
Federal Advisory Committee Management Officer.

[FR Doc. 2017-17362 Filed 8-16-17; 8:45 am]

BILLING CODE P